NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173).

Date and Time: February 16, 2023, 1:00 p.m.-5:30 p.m.; February 17, 2023, 10:00 a.m.-3:45 p.m.

Place: National Science Foundation, 2415 Eisenhower Avenue, Alexandria, VA 22314 (Virtual).

Meeting Registration: Registration for the virtual meeting can be accessed at: https://nsf.zoomgov.com/meeting/register/vJIsce6trDwpGwgkUfZny_IzTc0VcKuvm0g.

Type of Meeting: Open.

Contact Person: Dr. Bernice Anderson, Senior Advisor and CEOSE Executive Secretary, Office of Integrative Activities (OIA), National Science Foundation, 2415 Eisenhower Avenue, Alexandria, VA 22314. Contact Information: 703-292-8040/banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1: February 16, 2023

1:00 p.m.-1:30 p.m. Opening, Welcome, Introductions

1:30 p.m.-3:00 p.m. Discussion: 2021-2022 CEOSE Report and Dissemination

3:00 p.m.-3:15 p.m. Break

3:15 p.m.-4:15 p.m. Presentation: TIP Directorate

4:15 p.m.-5:30 p.m. Presentation: Report of the CEOSE Executive Liaison

Day 2: February 17, 2023

10:00 a.m.-10:15 a.m. Opening Remarks

10:15 a.m.-11:15 a.m. Discussion: Reports of the CEOSE Liaisons

11:15 a.m.-12:00 p.m. NCSES Briefing

12:00 p.m.-1:00 p.m. Working Lunch: Topics/Advice to Share with NSF Senior Leadership

1:00 p.m.-2:00 p.m. Presentation: GRANTED

2:00 p.m.-2:30 p.m. Discussion with NSF Director and Chief Operating Officer

2:30 p.m.-2:45 p.m. Break

2:45 p.m.-3:30 p.m. 10% Agency Priority Goal

3:30 p.m.-3:45 p.m. Announcements, Closing Remarks, Adjournment

Dated: January 19, 2023.
Crystal Robinson,
Committee Management Officer.

[FR Doc. 2023-01280 Filed 1-23-23; 8:45 am]

BILLING CODE 7555-01-P